FEDERAL MARITIME COMMISSION

Notice of Request for Additional Information

The Commission gives notice that it has formally requested that the parties to the below listed agreements provide additional information pursuant to 46 U.S.C. 40304(d). This action prevents the agreements from becoming effective as originally scheduled. Interested parties may file comments within fifteen (15) days after publication of this notice appears in the Federal Register.

Agreement No.: 201143-017.

Title: West Coast MTO Agreement.

Parties: APM Terminals Pacific, Ltd.; Eagle Marine Services, Ltd.; Everport Terminal Services Inc.; International Transportation Service, Inc.; LBCT LLC; Pacific Maritime Services, L.L.C.; SSA Terminals (Pier A), LLC; SSA Terminals, LLC; Total Terminals International, LLC; TraPac Inc.; West Basin Container Terminal LLC; and Yusen Terminals LLC.

By Order of the Federal Maritime Commission.
Dated: June 29, 2018.
Rachel E. Dickon,
Secretary.

[FR Doc. 2018-14417 Filed 7-3-18; 8:45 am]

BILLING CODE 6731-AA-P